DEPARTMENT OF AGRICULTURE

Forest Service

South Fork Wildfire Salvage Project, Boise National Forest, ID

AGENCY: Forest Service, USDA.

ACTION: Notice of Intent to Prepare Environmental Impact Statement.

SUMMARY: The Cascade Ranger District of the Boise National Forest will prepare an environmental impact statement (EIS) for a resource management project in the South Fork Salmon River. The entire project area is located within watersheds that drain directly into the South Fork Salmon River or its tributaries, downstream of Warm Lake. The project area is located 25 miles northeast of Cascade, Idaho, and about 120 miles north of Boise, Idaho.

The agency invites written comments and suggestions on the scope of the analysis. The agency also hereby gives notices of the environmental analysis and decision-making process that will occur on the proposal so interested and affected people are aware of how they may participate and contribute to the final decision. At this time no public meetings to discuss the project are planned.

Proposed Action: The primary objective of the project is to capture the value of fire-killed and imminently dead timber not needed to maintain or improve post-fire ecological function in the short (3-15 years) and long term (15+ years). To further the achievement of Forest Plan goals, road maintenance and decommissioning activities have been integrated with the salvage proposal to support identified aquatic and watershed restoration activities. Revenue generated from the salvage operation would be used to accomplish all or some of these road-related activities.

The Proposed Action would harvest fire-killed and imminently dead trees from a total of 2,536 acres in the 6,822-acre project area. Only those trees not needed to maintain or improve post-fire ecological function in the short (3-15 years) and long term (15+ years) would be harvested. An estimated 5.0 MMBF of timber would be available for harvest using ground-based (780 acres) and helicopter (1,756 acres) yarding systems. The Proposed Action would employ the salvage prescription only.

No new road construction or reconstruction, as defined in the Revised Forest Plan, would occur. An estimated 0.1 mile of road 401, 0.9 mile of road 467, and 0.4 mile of road 488 would be restored through maintenance activities to their approved road management objectives to improve fish habitat and hydrologic conditions, and reduce sedimentation. Specifically, three additional culverts and one hardened drive-through dip would be installed and two existing culverts replaced on road 401; eight additional culverts installed and 0.5 mile of the surface graveled on road 467, and; 0.4 mile of the surface graveled on road 488.

An estimated 0.3 mile of existing roads (401C, 487, and 467A), currently closed year-round to motorized traffic, would be decommissioned to prevent unauthorized use. These three roads (401C, 487, and 467A) and their associated arterial roads (487A, 487B, 487B1, 487D, 467A1, and 467A2) would be removed from the transportation system. Decommissioning of this 0.3 mile would effectively prevent unauthorized access on roughly 10 miles of road.

Preliminary Issues: Preliminary concerns with the Proposed Action include potential impacts on: (1) Fish habitat and water quality; (2) inventoried roadless areas; (3) visual quality of the area, and; (4) the suitable Wild and Scenic River corridor.

Possible Alternatives To The Proposed Action: One alternative to the Proposed Action that has been discussed thus far is a no action alternative. Other alternatives will likely be developed as issues are identified and information received.

Decisions To Be Made: The Boise National Forest Supervisor will decide the following. What amount, type, and distribution of dead and imminently dead trees within the wildfire area should be retained to improve or maintain post-fire ecological conditions? If dead and imminently dead trees within the wildfire area are found not to be needed to improve or maintain ecosystem functions, how should they be harvested while still protecting post-fire ecological conditions? Should existing classified roads within the project area receive maintenance activities to improve fish habitat and hydrologic conditions and reduce sedimentation, and if so, where within the project area? Should portions of roads currently closed year-round to motorized traffic be decommissioned to prevent unauthorized use, and if so, which roads? What design features and/or mitigation measures should be applied to proposed activities to help ensure the activities do not retard attainment of post-fire ecological recovery in the short and long term?

DATES: Substantive comments concerning the proposed project and analysis are encouraged and should be postmarked or received within 30 days following publication of this announcement in the Federal Register.

ADDRESSES: Substantive comments should be addressed to the Cascade Ranger District, ATTN: Keith Dimmett, P.O. Box 696, Cascade, ID 83611 or sent electronically to comments-intermtn-boise-cascade@fs.fed.us. Electronic comments must be submitted in plain text or another format compatible with Microsoft Word. Substantive comments are those within the scope of, are specific to, and have a direct relationship to the proposed action and include supporting reasons that the Responsible Official should consider in reaching a decision. Comments received in response to this request will be available for public inspection and will be released in their entirety if requested pursuant to the Freedom of Information Act.

FOR FURTHER INFORMATION CONTACT: Further information can be obtained from Keith Dimmett at the address mentioned above or by calling 208-382-7400.

Schedule: Draft Environmental Impact Statement (DEIS), February 2004. Final Environmental Impact Statement (FEIS), May 2004.

SUPPLEMENTARY INFORMATION: Roughly half of the project area has been inventoried as roadless, including portions of both the Reeves Creek and Caton Lake Inventoried Roadless Areas. None of the activities associated with the Proposed Action would occur within any inventoried roadless area. With the exception of trees already felled within the powerline corridor, harvest would not occur within streamside riparian conservation areas (RCAs).

The entire project area lies within Management Area 19 (Warm Lake), discussed on pages III-316 through III-331 in the Revised Boise National Land and Resource Management Plan. Several management prescription categories apply within this management area, however only Management Prescription Categories 2.1, 3.2, and 4.2 occur within the project area.

The comment period on the DEIS will be 45 days from the date the Environmental Protection Agency publishes the notice of availability in the Federal Register.

The Forest Service believes, at this early stage, it is important to give reviewers notice of several court rulings related to public participation in the environmental review process. First, reviewers of the DEIS must structure their participation in the environmental review of the proposal so that it is meaningful and alerts an agency to the reviewer's position and contentions. Vermont Yankee Nuclear Power Corp. v. NRDC, 435 U.S. 519, 553 (1978). Also, environmental objections that could be raised at the DEIS stage but are not raised until after completion of the FEIS may be waived or dismissed by the courts. City of Angoon v. Hodel, 803 F. 2d 1016, 1002 (9th Cir., 1986) and Wisconsin Heritages, Inc. v. Harris, 490 F. Supp. 1334, 1338 (E.D. Wis. 1980). Because of these court rulings, it is very important that those interested in this proposed action participate by the close of the DEIS 45-day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Reviewers may wish to refer to the Council on Environmental Quality Regulations for implementing the procedural provisions of the National Environmental Policy Act at 40 CFR 1503.3 in addressing these points.

Responsible Official: Richard A. Smith, Forest Supervisor, Boise National Forest, 1249 South Vinnell Way, Suite 200, Boise, ID 83709.

Dated: November 26, 2003.
Richard A. Smith,
Forest Supervisor.

[FR Doc. 03-30066 Filed 12-4-03; 8:45 am]

BILLING CODE 3410-11-M